DEPARTMENT OF TRANSPORTATION

Federal Highway Administration

Environmental Impact Statement: Travis County, TX

AGENCY: Federal Highway Administration (FHWA), DOT.

ACTION: Notice of Intent.

SUMMARY: Pursuant to 40 CFR 1508.22 and 43 TAC § 2.5(e)(2), the FHWA, Texas Department of Transportation (TxDOT), and Central Texas Regional Mobility Authority (Mobility Authority) are issuing this notice to advise the public that an environmental impact statement (EIS) will be prepared for a transportation project in Travis County, Texas. The proposed project would improve US 290 from State Loop 1 (SL1 [Mopac]) to Ranch-to-Market Road (RM) 1826, in Travis County, Texas, a distance of approximately 3.6 miles. The EIS will also include improvements to SH 71 from Silvermine Drive to US 290 in Travis County, a distance of approximately 1.2 miles.

FOR FURTHER INFORMATION CONTACT: Mr. Salvador Deocampo, District Engineer, District A, Federal Highway Administration, Texas Division, 300 East 8th Street, Room 826, Austin, Texas, 78701. Phone: 512-536-5950.

DATES: Public Scoping meetings will be held in fall 2012 and winter 2013 to receive oral and written comments on environmental concerns that should be addressed in the EIS. The public scoping meetings will be held at dates, times and locations to be published in general circulation newspapers in the project area. Comments concerning the scope of the analysis should be received in writing within 30 days following the date of the last scoping meeting to receive full consideration in the development of alternatives.

SUPPLEMENTARY INFORMATION: The FHWA in cooperation with TxDOT and the Mobility Authority will prepare an EIS for the proposed improvement of US 290 from State Loop 1 (SL1 [Mopac]) to Ranch-to-Market Road (RM) 1826, in Travis County, Texas, a distance of approximately 3.6 miles. The EIS will also include improvements to SH 71 from Silvermine Drive to US 290 in Travis County, a distance of approximately 1.2 miles. Proposed improvements were originally considered in a Final Environmental Impact Statement (FEIS) covering improvements to SH 71/US 290 from RM 1826 to Farm-to-Market (FM) 973. A Record of Decision (ROD) was issued by FHWA on August 22, 1988. The mid-section of the original project limits, between Joe Tanner Lane and Riverside Drive, has been constructed. Since the issuance of the ROD, changes in adjacent land use, State and Federal listing of the Barton Springs salamander as endangered, changes in funding mechanisms, and public input have resulted in changes in the proposed design concept. A new EIS will be completed to evaluate potential impacts from the proposed improvements. The proposed project limits of the US 290 EIS would extend beyond the limits of the original FEIS to allow for a logical terminus and transition back to existing US 290 at Circle Drive and along SH 71 at Silvermine Drive.

The project is listed in the Capital Area Metropolitan Planning Organization (CAMPO) 2035 Regional Transportation Plan, as amended, as a six-lane tolled freeway from Circle Drive to Joe Tanner Lane and as tolled connector bridges from SH 71 to US 290 W. The proposed action is also included in the CAMPO's fiscal year 2011-2014 Transportation Improvement Program (TIP) as an added capacity, tolled facility and tolled connector bridges from SH 71. The need for the proposed project stems from corridor congestion causing unreliable traffic operations within the US 290/SH 71 corridor. TxDOT and the Mobility Authority have identified the following issues that the project would address: safety concerns along the corridor, roadway congestion which has been caused by steady population growth in the Austin metropolitan area, system mobility and connectivity, time delay and level of service (LOS; currently at LOS F—unacceptable congestion) within the corridor, and reliable routes for transit and emergency vehicles within the corridor.

In order to address the identified needs and objectives, the purpose of the proposed project is to improve mobility and operational efficiency, facilitate long-term congestion management in the corridor by accommodating the movement of people and goods for multiple modes of travel, and improve safety and emergency response within the corridor. A reasonable number of alignment alternatives will be identified and evaluated in the EIS, as well as the No-build Alternative, based on input from federal, state, and local agencies, as well as private organizations and concerned citizens. Alternative designs and funding alternatives will include tolling options or new managed lanes. In addition, environmental stewardship and sustainability strategies will be developed to address those problems which are not transportation related and may include improved service quality and quality of access to goods and services, safety, improved air quality, noise reduction, improved water quality, protection of habitat and open space, historic preservation, reduced carbon emissions, increased social equity, economic development, and a satisfying quality of life, plus local goals consistent with the overall project purpose and need.

Impacts caused by the construction and operation of the proposed improvements would vary depending on the selection of a build alternative. The EIS will evaluate potential impacts from construction and operation of the proposed roadway including, but not limited to, the following: impacts to residences and businesses, including potential relocation; impacts to parkland; transportation impacts (construction detours, construction traffic, and mobility improvement); air and noise impacts from construction equipment and operation of the roadway; social and economic impacts, including impacts to minority and low-income residences; impacts to historic cultural resources; endangered and threatened species and impacts to waters of the U.S. including wetlands from right-of-way encroachment; and potential indirect and cumulative impacts.

Public involvement is a critical component of the project development process and will occur throughout the planning and study phases. Opportunities for public involvement would exist during the scoping process, public meetings and a public hearing. A Public and Agency Coordination Plan will be provided in accordance with 23 U.S. Code Section 139 (23 U.S.C. 139), to facilitate and document the lead agencies, structure interaction with the public and other agencies, and to inform the public and other agencies of how the coordination will be accomplished. The Public and Agency Coordination Plan will promote early and continuous involvement from stakeholders, agencies, and the public as well as describe the proposed project, the roles of the agencies and the public, the project purpose and need, schedule, level of detail for alternatives analysis, and the proposed process for coordination and communication.

Letters describing the proposed action and soliciting comments will be sent to the appropriate Federal, State, and local agencies, and private organizations and citizens who have previously expressed or are known to have interest in this proposal. To ensure that the full range of issues related to this proposed action are addressed and all significant issues are identified, comments and suggestions are invited from all interested parties. Comments or questions concerning this proposed action and the EIS should be directed to FHWA at the address above.

(Catalog of Federal Domestic Assistance Program Number 20.205, Highway, Planning, and Construction. The regulations implementing Executive Order 12372 regarding intergovernmental consultation on Federal programs and activities apply to this program.)

Issued on: October 1, 2012.
Salvador Deocampo,
District Engineer.

[FR Doc. 2012-24722 Filed 10-5-12; 8:45 am]

BILLING CODE 4910-22-P